DEPARTMENT OF THE INTERIOR

National Park Service

[NPS-WASO-NAGPRA-NPS0038573; PPWOCRADN0-PCU00RP14.R50000]

Notice of Intended Repatriation: U.S. Department of the Interior, Bureau of Land Management, Alaska State Office, Anchorage, AK

AGENCY: National Park Service, Interior.

ACTION: Notice.

SUMMARY: In accordance with the Native American Graves Protection and Repatriation Act (NAGPRA), the U.S. Department of the Interior, Bureau of Land Management, Alaska State Office (BLM Alaska) intends to repatriate certain cultural items that meet the definition of unassociated funerary objects and that have a cultural affiliation with the Indian Tribes or Native Hawaiian organizations in this notice.

DATES: Repatriation of the cultural items in this notice may occur on or after September 23, 2024.

ADDRESSES: Robin O. Mills, Bureau of Land Management, 222 W 7th Avenue #13, Anchorage, AK 99513, telephone (907) 474-2359, email rmills@blm.gov.

SUPPLEMENTARY INFORMATION: This notice is published as part of the National Park Service's administrative responsibilities under NAGPRA. The determinations in this notice are the sole responsibility of the BLM Alaska, and additional information on the determinations in this notice, including the results of consultation, can be found in the summary or related records. The National Park Service is not responsible for the determinations in this notice.

Abstract of Information Available

A total of 69 unassociated funerary objects have been requested for repatriation. The 69 unassociated funerary objects are lance and arrow blades and shafts, game pieces, different types of projectile points, other hunting tools and accessories, wood shavings, dolls, stone tools, a carving, an effigy, bowls, dishes, cups, and scoop pieces, and wrapping material.

Based on the information available, Native American unassociated funerary objects have been identified at the University of Pennsylvania Museum of Archaeology and Anthropology (Penn Museum). These objects were collected by William Van Valin when he was hired by the Penn Museum to lead the John Wanamaker Expedition to Alaska, in 1917-1919. The 69 unassociated funerary objects derive from the Kugusugaruk site (49-BAR-00003) located 6.6 miles southwest of present-day Utqiagvik, Alaska; available records are unable to link these items to specific human remains from northern Alaska at the Penn Museum, the Smithsonian Institute (SI), National Museum of Natural History (NMNH), or any other museum.

Determinations

The BLM Alaska has determined that:

• The 69 unassociated funerary objects described above are reasonably believed to have been placed intentionally with or near individual human remains, and are connected, either at the time of death or later as part of the death rite or ceremony and are believed, by a preponderance of the evidence, to have been removed from a specific burial site of an individual or individuals with cultural affiliation to an Indian Tribe or Native Hawaiian organization.

• There is a reasonable connection between the human remains and funerary objects described in this notice and the Native Village of Barrow Inupiat Traditional Government.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after September 23, 2024. If competing requests for repatriation are received, the BLM Alaska must determine the most appropriate requestor prior to repatriation. Requests for joint repatriation of the cultural items are considered a single request and not competing requests. The BLM Alaska is responsible for sending a copy of this notice to the Indian Tribes and Native Hawaiian organizations identified in this notice and to any other consulting parties.

Authority: Native American Graves Protection and Repatriation Act, 25 U.S.C. 3004 and the implementing regulations, 43 CFR 10.9.

Dated: August 15, 2024.
Mariah Soriano,
Acting Manager, National NAGPRA Program.

[FR Doc. 2024-18953 Filed 8-22-24; 8:45 am]

BILLING CODE 4312-52-P